DEPARTMENT OF EDUCATION

Applications for New Awards; American Rescue Plan—American Indian Resilience in Education (ARP-AIRE)

AGENCY: Office of Elementary and Secondary Education, Department of Education.

ACTION: Notice.

SUMMARY: The Department of Education (Department) is issuing a notice inviting applications (NIA) for fiscal year (FY) 2021 for the American Rescue Plan—American Indian Resilience in Education (ARP-AIRE) program, Assistance Listing Number 84.299C. This notice relates to the approved information collection under OMB control number 1894-0006.

DATES:

Applications Available: July 13, 2021.

Deadline for Notice of Intent to Apply: July 23, 2021.

Date of Pre-Application Webinar: July 28, 2021.

Individuals interested in attending this webinar for prospective applicants are encouraged to pre-register by emailing their name, organization, and contact information with the subject heading “ARP-AIRE GRANTS PRE-APPLICATION WEBINAR” to shahla.ortega@ed.gov. There is no registration fee to attend this meeting. Information regarding pre-application webinar is available by accessing the website: https://oese.ed.gov/offices/office-of-indian-education/.

Deadline for Transmittal of Applications: September 13, 2021.

Deadline for Intergovernmental Review: October 12, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Shahla Ortega, U.S. Department of Education, 400 Maryland Avenue SW, Room 3W245, Washington, DC 20202. Telephone: (202) 453-5602. Email: shahla.ortega@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the ARP-AIRE program is to support Tribal educational agencies (TEAs) in the provision of direct services to Indian children and youth. Projects must include one or more of the activities authorized under section 6121(c) of the Elementary and Secondary Education Act of 1965, as amended (ESEA).

Background: ARP-AIRE is a one-time discretionary grant competition authorized under Section 11006(1) of the American Rescue Plan Act of 2021 (ARP) to provide awards to TEAs for activities authorized under section 6121(c) of the ESEA in order to meet the urgent needs of students in response to the Coronavirus 2019 (COVID-19) pandemic. Those activities include a broad range of direct services to Indian children and youth, their teachers, and families.

In accordance with the Department's commitment to engage in regular and meaningful consultation and collaboration with Indian Tribes, the Office of Elementary and Secondary Education's (OESE) Office of Indian Education (OIE) and the White House Initiative on American Indian and Alaska Native Education (WHIAIANE) conducted a virtual Tribal consultation session regarding the ARP-AIRE program on April 26, 2021. Consistent with the Department's trust responsibility to Tribes and its Tribal consultation Policy, the Department consulted with elected officials of federally recognized Tribes to ensure that their views inform the Department's policy decisions related to the priorities, requirements, and definitions that govern this competition. In addition to the virtual Tribal consultation, Tribal leaders and others had an opportunity to submit written comments to the Department by email. We solicited feedback on specific questions related to the design of this grant program during this Tribal consultation opportunity. A summary of the feedback to these questions and how we incorporated the feedback into this NIA follows.

1. We asked whether we should adopt the definition of TEA used in the State Tribal Education Partnership (STEP) program for the ARP-AIRE program, which is: “the agency, department, or instrumentality of an Indian Tribe that is primarily responsible for supporting Tribal students' elementary and secondary education.” A significant number of comments from both Tribal leaders and others expressed interest in using the same definition from the STEP program. A commenter expressed interest in adding postsecondary education, and another proposed adding online students, to the definition. Because the activities in ESEA section 6121(c) are focused on pre-kindergarten (Pre-K) to grade 12 education, we are limiting the scope of this program to students in those grade levels. This scope covers students in a TEA's geographic area, regardless of whether students attend school in person or online. Thus, we are using the STEP definition of TEA in this ARP-AIRE program competition.

2. We asked whether there were other considerations for how “TEA” should be defined for this new grant program. Some commenters expressed interest in adding Pre-K and early childhood to the definition of TEA. Although we are not expanding the definition of TEA, the activities in ESEA section 6121(c) do include early childhood education, and accordingly we are including language in the absolute priority to provide applicants an opportunity to select project activities that would address any grade level from Pre-K through grade 12.

3. We asked how long the grant period should be for the ARP-AIRE program and provided examples of 3-year, 4-year, and 5-year grant periods. A majority of Tribal leaders and other commenters suggested that the program performance period be a 5-year period. We considered this input, but weighed it against the fact that, given the one-time nature of these ARP funds, we could award more 3-year awards than 5-year awards, and the fact that the ARP funding is emergency funding from Congress to address immediate needs caused by the pandemic. We also believe that a grant period shorter than three years would not give grantees adequate time to successfully implement projects. We have decided to use a 3-year grant period in order to maximize the number of awards available and reach the maximum number of Tribal communities throughout the country to support effective responses to the pandemic.

4. We explained that we were considering prioritizing certain project activities from the full list of allowable activities in ESEA section 6121(c). All of the allowable activities are for direct services to Indian children and youth in Pre-K through twelfth grade, and/or their teachers and parents. We asked Tribal representatives to select two of the listed activities that most interest their Tribal Nation. The most popular activities selected by participants were Native language programs; services to assist and encourage students to enter, remain in, or reenter school; and incorporation of culturally relevant pedagogy into local school curricula. However, the majority of comments from Tribal leaders and others strongly recommended that TEAs be able to choose their grant focus from among the activities listed in section 6121(c) of the ESEA. We agree with Tribal leaders and other commenters that allowing applicants to choose their activities better supports Tribal sovereignty.

The Department has designed one absolute priority that we believe meets these various goals; the absolute priority requires culturally relevant projects designed to assist and encourage Indian children and youth to enter, remain in, or reenter school at any grade level from Pre-K through grade 12, that include at least one of the activities from section 6121(c) of the ESEA. We omitted section 6121(c)(5) because it is incorporated into the introductory language of the absolute priority, and section 6121(c)(14) because it is only relevant to the Demonstration Grants program. Under this absolute priority, applicants can choose one or more of the activities, such as native language instruction, remedial instruction, or Pre-K education, and must show how it is culturally relevant and how it is designed to help students enter, remain in, or reenter school.

We included in the introductory language of the absolute priority the focus on activities that assist and encourage Indian children and youth to enter, remain in, or reenter school, because two decades of research literature shows that there is a clear need to identify strategies to help keep Indian children and youth in school (Withington A., & Shtivelband, A., 2014).¹ We included the requirement that all projects use culturally related activities because research has shown that such activities improve the academic achievement of American Indian/Alaska Native students (McCarty, 2011; ² Faircloth & Tippeconic, 2000; ³ Kim & Helphenstine, 2017; Thomas & Collier, 1997 ⁴).

¹ Withington A., & Shtivelband, A. (2014). Native American student-dropout prevention strategies: Abstracts from the literature. (A report from the West Comprehensive Center.) San Francisco, CA: WestEd.

² McCarty, T. (2011). The role of Native languages and cultures in American Indian, Alaska Native, and Native Hawaiian student achievement. A revised version of a policy brief prepared for the Promising Practices and Partnerships in Indian Education (P3IE) Program Evaluation Group, under a contract from the U.S. Department of Education Office of Indian Education Programs in 2009.

³ Faircloth, S., & Tippeconnic, J.W., III. (2000). Issues in the education of American Indian and Alaska Native students with disabilities. ERIC Number: ED448009.

⁴ Thomas, W.P., & Collier, V. (1997). School effectiveness for language minority students. The George Washington University, Washington, DC: National Clearing House for Bilingual Education. ERIC Number: ED436087.

5. We asked whether we should prioritize novice applicants by including a competitive preference priority that awards additional points to applicants that have not received a grant from the Department within a certain time period. The majority of comments were in favor of the Department including a competitive preference priority to encourage novice applicants to give an advantage to TEAs that have not previously been awarded grants from the Department. We agree and have included a competitive preference priority for novice applicants in the competition. For this competition, a “novice” applicant is one that has not had an active discretionary grant from the Department in the past five years. If an applicant received a grant during that period only as a member of a consortium in which it was not the lead applicant, the applicant will still receive the novice priority points. For an applicant that is a consortium of TEAs, if the lead applicant has not had an active discretionary grant from the Department in the past five years, it will receive the novice points even if not all consortium members meet the novice requirement.

6. We asked how we should measure the success of these projects and included the following measures as examples: The number and percentage of participating students who demonstrate an increase in attendance rate; increase in graduation rate; improved academic performance; and improved social, emotional and mental health. As a related matter, we asked whether we should require grantees to track student-level data and, specifically, graduation rates. The majority of comments suggested the Department measure the success of project performance using attendance, academic performance, and other means as defined by the TEA. While we generally agree that each of these are important, because we anticipate that projects will focus on many types of activities, the Department will measure success by determining the number of grantees that attain or exceed the targets for the outcome indicators that have been approved by the Secretary for their projects.

As part of these questions, we also asked whether we should require grantees to track these measures during a data collection period after the substantive project activities have ended. A majority of the comments from Tribal leaders and others suggested that grantees should track measures beyond the performance period. While we generally agree, we also had many requests during consultation to keep the program design simple and minimize program requirements. Therefore, we will not incorporate a program requirement relating to long-term data collection; however, we may consider grant extensions for data collection in the future.

7. We asked whether we should require grantees to enter into written data-sharing agreements with the school districts attended by students participating in their projects. The purpose of such agreements would be to ensure that grantees have the data needed to report on measures we might require of all grantees, as well as their own project-specific objectives. Results were mixed from Tribal leaders as to whether the Department should impose an application requirement for a data-sharing agreement with partner schools. Most other commenters suggested that TEAs should be required to enter a data-sharing agreement with partner schools prior to applying. One commenter suggested that data-sharing agreements could be entered into at any appropriate point in the grant process and do not necessarily need to be entered into prior to submitting a grant application. While we generally agree that data-sharing agreements are conducive to effective project performance, we do not want to impose an application requirement that we understand can be very time-consuming and that might lead to TEAs being unable to meet the application deadline. Instead, we have created a program requirement for a data-sharing agreement to allow grantees the flexibility to obtain those agreements during the first six months of their performance period.

8. We asked Tribal leaders and other participants to comment on any other application or program requirements that we should consider. Commenters suggested that we require family engagement and minimize reporting burden on grantees as much as possible. We recognize the importance of promoting family engagement and reducing reporting burden and have taken those into consideration. While we agree that family engagement is important, we also want to simplify the application and be respectful of Tribal sovereignty, so we are not adding an additional program requirement around family engagement. With regard to reporting burdens, there are Department-wide requirements around annual reporting in the Annual Performance Report (APR), and we believe that APR reporting serves a valuable function in ensuring ongoing progress and enabling us to provide assistance to grantees who may be struggling to achieve adequate progress.

Priorities: This notice contains one absolute priority and one competitive preference priority. We are establishing these priorities for the FY 2021 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this priority.

This priority is:

American Indian Resilience in Education.

To meet this priority, applicants must propose a culturally relevant project designed to assist and encourage Indian children and youth to enter, remain in, or reenter school at any grade level from Pre-K through grade 12, that includes at least one of the following activities from section 6121(c) of the ESEA:

(1) Innovative programs related to the educational needs of educationally disadvantaged Indian children and youth.

(2) Educational services that are not available to such children and youth in sufficient quantity or quality, including remedial instruction, to raise the achievement of Indian children in one or more of the subjects of English, mathematics, science, foreign languages, art, history, and geography.

(3) Bilingual and bicultural programs and projects.

(4) Special health and nutrition services, and other related activities, that address the special health, social, and psychological problems of Indian children and youth.

(5) Comprehensive guidance, counseling, and testing services.

(6) Early childhood education programs that are effective in preparing young children to make sufficient academic growth by the end of grade 3, including kindergarten and Pre-K programs, family-based preschool programs that emphasize school readiness, screening and referral, and the provision of services to Indian children and youth with disabilities.

(7) Partnership projects between local educational agencies and institutions of higher education that allow secondary school students to enroll in courses at the postsecondary level to aid such students in the transition from secondary to postsecondary education.

(8) Partnership projects between schools and local businesses for career preparation programs designed to provide Indian youth with the knowledge and skills such youth need to make an effective transition from school to a high-skill career.

(9) Programs designed to encourage and assist Indian students to work toward, and gain entrance into, institutions of higher education.

(10) Family literacy services.

(11) Activities that recognize and support the unique cultural and educational needs of Indian children and youth, and incorporate traditional leaders.

(12) High-quality professional development of teaching professionals and paraprofessionals.

Competitive Preference Priority: This priority is a competitive preference priority. Under 34 CFR 75.105(c)(2)(i) we award an additional five points to an application that meets this priority.

This priority is:

Applicants that are New Potential Grantees. (0 or 5 points)

To meet this priority, the applicant has not had an active discretionary grant from the Department in the past five years. For an applicant that is a consortium of TEAs, if the lead applicant meets this requirement, it will receive the novice points even if not all consortium members meet this requirement.

Requirement: We are establishing this program requirement for the FY 2021 grant competition and any subsequent year in which we make awards from the list of unfunded applications from this competition, in accordance with section 437(d)(1) of GEPA.

Program Requirement: Within six months after the date of the award, the grantee must submit to the Department a signed, written agreement with each LEA where participating students are enrolled. The agreement must include provisions that allow the grantee to access data necessary for the success of the project and for reporting on project objectives. Agreements between Tribally-controlled schools and grantees are not required if the school and grantee are controlled by the same Tribe.

Statutory Hiring Preference:

(a) Awards that are primarily for the benefit of Indians are subject to the provisions of section 7(b) of the Indian Self-Determination and Education Assistance Act (Pub. L. 93-638). That section requires that, to the greatest extent feasible, a grantee—

(1) Give to Indians preferences and opportunities for training and employment in connection with the administration of the grant; and

(2) Give to Indian organizations and to Indian-owned economic enterprises, as defined in section 3 of the Indian Financing Act of 1974 (25 U.S.C. 1452(e)), preference in the award of contracts in connection with the administration of the grant.

(b) For purposes of this preference, an Indian is a member of any federally recognized Indian Tribe.

Definitions: The following definitions apply to this competition. We are establishing the definitions of “Indian” and “Tribal Educational Agency” in this notice for the FY 2021 grant competition and any subsequent year in which we make awards from the list of unfunded applications from this competition, in accordance with section 437(d)(1) of GEPA. The definitions of “demonstrates a rationale” and “logic model” are from 34 CFR 77.1.

Demonstrates a Rationale means a key project component included in the project's logic model is informed by research or evaluation findings that suggest the project component is likely to improve relevant outcomes.

Indian means an individual who is—

(1) A member of an Indian Tribe or band, as membership is defined by the Indian Tribe or band, including any Tribe or band terminated since 1940, and any Tribe or band recognized by the State in which the Tribe or band resides;

(2) A descendant of a parent or grandparent who meets the requirements described in paragraph (1) of this definition;

(3) Considered by the Secretary of the Interior to be an Indian for any purpose;

(4) An Eskimo, Aleut, or other Alaska Native; or

(5) A member of an organized Indian group that received a grant under the Indian Education Act of 1988 as it was in effect on October 19, 1994.

Logic Model (also referred to as a theory of action) means a framework that identifies key project components of the proposed project (i.e., the active “ingredients” that are hypothesized to be critical to achieving the relevant outcomes) and describes the theoretical and operational relationships among the key project components and relevant outcomes.

Tribal Educational Agency (TEA) means the agency, department, or instrumentality of one or more federally- recognized or State-recognized Indian Tribes, that is primarily responsible for supporting Tribal students' elementary and secondary education.

Waiver of Proposed Rulemaking: Under the Administrative Procedure Act (5 U.S.C. 553) the Department generally offers interested parties the opportunity to comment on proposed priorities, requirements, and definitions. Section 437(d)(1) of GEPA, however, allows the Secretary to exempt from rulemaking requirements regulations governing the first grant competition under a new or substantially revised program authority. This is the first grant competition for this program under section 11006(1) of the ARP (Pub. L. 117-2), and, therefore, qualifies for this exemption. In order to ensure timely grant awards, the Secretary has decided to forgo public comment on the priorities, requirements, and definitions under section 437(d)(1) of GEPA. These priorities, requirements, and definitions will apply to the FY 2021 competition, and any subsequent year in which we make awards from the list of unfunded applications from this competition.

Program Authority: Section 11006 of the American Rescue Plan Act of 2021 (ARP), Public Law 117-2.

Applicable Regulations: (a) The Education Department General Administrative Regulations in 34 CFR parts 75, 77, 79, 81, 82, 84, 86, 97, 98, and 99. (b) The Office of Management and Budget Guidelines to Agencies on Governmentwide Debarment and Suspension (Non-procurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

II. Award Information

Type of Award: Discretionary grants.

Estimated Available Funds: $19,800,000 for three years.

Estimated Range of Awards: $300,000 to $500,000 for each 12-month budget period.

Estimated Average Size of Awards: $400,000 for each 12-month budget period.

Estimated Number of Awards: 16 for each 12-month budget period.

Note: The Department is not bound by any estimates in this notice.

Project Period: 36 months.

III. Eligibility Information

1. Eligible Applicants: TEAs, including a consortium of TEAs.

Note: If applying as a consortium, applicants should refer to 34 CFR 75.127-75.129 for information about group applications.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to the Cost Principles in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the ARP-AIRE program, your application may include business information that you consider proprietary. In 34 CFR 5.11 we define “business information” and describe the process we use in determining whether any of that information is proprietary and, thus, protected from disclosure under Exemption 4 of the Freedom of Information Act (5 U.S.C. 552, as amended). Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this program. Please note that, under 34 CFR 79.8(a), we have shortened the standard 60-day intergovernmental review period in order to make awards by the end of FY 2021.

4. Funding Restrictions: We reference regulations outlining funding restrictions in the Applicable Regulations section of this notice.

5. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

The recommended page limit does not apply to the cover sheet; the budget section, including the narrative budget justification; the assurances and certifications; or the one-page abstract, the resumes, the bibliography, or the letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this program are from 34 CFR 75.210. We will award up to 100 points to an application under the selection criteria; the total possible points for each selection criterion are noted in parentheses.

(a) Quality of the project design (up to 50 points).

(1) The Secretary considers the quality of the design of the proposed project.

(2) In determining the quality of the design of the proposed project, the Secretary considers the following factors:

(i) The extent to which the design of the proposed project includes a thorough, high-quality review of the relevant literature, a high-quality plan for project implementation, and the use of appropriate methodological tools to ensure successful achievement of project objectives. (20 points)

(ii) The extent to which the proposed project encourages parental involvement. (10 points)

(iii) The extent to which the proposed project demonstrates a rationale (as defined in this notice). (10 points)

(iv) The extent to which the methods of evaluation include the use of objective performance measures that are clearly related to the intended outcomes of the project and will produce quantitative and qualitative data to the extent possible. (10 points)

(b) Quality of project services (up to 20 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability. (1 point)

(3) In addition, the Secretary considers the following factors:

(i) The extent to which the services to be provided by the proposed project are appropriate to the needs of the intended recipients or beneficiaries of those services. (4 points)

(ii) The extent to which the services to be provided by the proposed project reflect up-to-date knowledge from research and effective practice. (10 points)

(iii) The likely impact of the services to be provided by the proposed project on the intended recipients of those services. (5 points)

(c) Quality of project personnel (up to 15 points).

(1) The Secretary considers the quality of the personnel who will carry out the proposed project.

(2) In determining the quality of project personnel, the Secretary considers the extent to which the applicant encourages applications for employment from persons who are members of groups that have traditionally been underrepresented based on race, color, national origin, gender, age, or disability. (3 points)

(3) In addition, the Secretary considers the following factors:

(i) The qualifications, including relevant training and experience, of the project director or principal investigator. (7 points)

(ii) The qualifications, including relevant training and experience, of key project personnel. (5 points)

(d) Quality of the management plan (up to 15 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks. (10 points)

(ii) The extent to which the time commitments of the project director and principal investigator and other key project personnel are appropriate and adequate to meet the objectives of the proposed project. (5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of the Government Performance and Results Act of 1993 and for Department reporting under 34 CFR 75.110, we have established the following performance measure for the ARP-AIRE program:

The number of grantees that attain or exceed the targets for the outcome indicators that have been approved by the Secretary for their projects.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ian Rosenblum,
Deputy Assistant Secretary for Policy and Programs Delegated the Authority to Perform the Functions and Duties of the Assistant Secretary, Office of Elementary and Secondary Education.

[FR Doc. 2021-14858 Filed 7-12-21; 8:45 am]

BILLING CODE 4000-01-P